FEDERAL COMMUNICATIONS COMMISSION

47 CFR Part 64

[WC Docket No. 12-375, DA 22-676; FR ID 109242]

Rates for Interstate Inmate Calling Services

AGENCY: Federal Communications Commission.

ACTION: Final rule; announcement of effective date.

SUMMARY: In this document, the Federal Communications Commission (Commission) announces that the Office of Management and Budget (OMB) has approved, for a period of three years, an information collection associated with the Annual Reports Adoption Order issued by the Commission's Wireline Competition Bureau (WCB or Bureau) on June 24, 2022. In that Order, WCB adopted instructions, a reporting template, and a certification form related to an Annual Report data collection regarding calling services for incarcerated people. The instant document is consistent with the Annual Reports Adoption Order, which indicated that the Commission will publish a document in the Federal Register announcing that OMB approved the data collection and establishing an effective date for the actions in the Order.

DATES: The Annual Reports Adoption Order, DA 22-676, including the reporting instructions, template, and certification form adopted in that Order, published August 2, 2022, at 87 FR 47103, is effective on October 17, 2022.

FOR FURTHER INFORMATION CONTACT: Erik Raven-Hansen, Pricing Policy Division, Wireline Competition Bureau, (202) 418-1532, or email erik.raven-hansen@fcc.gov.@fcc.gov.

SUPPLEMENTARY INFORMATION: This document announces that, on October 3, 2022, OMB approved, for a period of three years, the information collection requirements adopted on June 24, 2022, in the Annual Reports Adoption Order, DA 22-676, published at 87 FR 47103 (August 2, 2022). The OMB Control Number is 3060-1222. The Commission publishes this document as an announcement of the effective date of the requirements for the Annual Report Collection.

In the Annual Reports Adoption Order, WCB directed that requirements for the Annual Reports adopted in that Order would become effective on the date specified in a document to be published in the Federal Register announcing OMB approval. Annual Reports must be filed on April 1 of each year. We note that the next inmate calling services (ICS) providers' responses to the Annual Report data collection are due no later than Monday, April 3, 2023 because April 1, 2023, falls on a Saturday.

If you have any comments on the Annual Report data collection, or how the Commission can improve the collections and reduce any burdens caused thereby, please contact Nicole Ongele, Federal Communications Commission, 45 L Street NE, Washington, DC 20002. Please include the OMB Control Number, 3060-1222, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on October 3, 2022, for the information collection requirements contained in WCB's Annual Reports Adoption Order. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1222.

The foregoing notification is required by the Paperwork Reduction Act of 1995, Public Law 104-13, October 1, 1995, and 44 U.S.C. 3507.

The total data collection burdens and costs for the respondents are as follows:

OMB Control Number: 3060-1222.

OMB Approval Date: October 3, 2022.

OMB Expiration Date: October 31, 2025.

Title: Inmate Calling Services (ICS) Provider Annual Reporting, Certification, Consumer Disclosure, and Waiver Request Requirements, WC Docket No. 12-375, FCC 21-60.

Form Numbers: FCC Form 2301(a) and FCC Form 2301(b).

Respondents: Business or other for profit.

Number of Respondents and Responses: 20 respondents; 23 responses.

Estimated Time per Response: 5 hours-120 hours.

Frequency of Response: Annual reporting and certification requirements, third party disclosure and waiver request requirements.

Total Annual Burden: 3,740 hours.

Total Annual Cost: No cost.

Obligation to Respond: Required to obtain or retain benefits. Statutory authority for this information collection is contained in sections 1, 4(i)-(j), 201(b), 218, 220, 225, 255, 276, 403, and 617 of the Communications Act of 1934, as amended, 47 U.S.C. 151, 154(i)-(j), 201(b), 218, 220, 225, 255, 276, 403, and 617.

Privacy Act Impact Assessment: No Impact(s).

Nature and Extent of Confidentiality: The Protective Order in the Commission's ICS proceeding, WC Docket 12-375, 28 FCC Rcd 16954 (WCB 2013), provides confidential treatment for the proprietary information submitted by ICS providers in response to the Commission's directives. The Commission will treat as presumptively confidential any particular information identified as confidential by the provider in accordance with the Freedom of Information Act and Commission rules. Each confidential document should be stamped and submitted to the Secretary's Office with an accompanying cover letter, as specified by the Protective Order.

Needs and Uses: Section 201 of the Communications Act of 1934, as amended (Act), 47 U.S.C 201, requires that ICS providers' interstate and international rates and practices be just and reasonable. Section 276 of the Act, 47 U.S.C. 276, requires that payphone service providers (including ICS providers), be fairly compensated for completed calls.

In 2015, the Commission released the Second Report and Order and Third Notice of Further Proposed Rulemaking, WC Docket No. 12-375, 30 FCC Rcd 12763, (2015 ICS Order), in which the Commission required that ICS providers file Annual Reports providing data and other information on their ICS operations, as well as Annual Certifications that reported data are complete and accurate and comply with the Commission's ICS rules. Pursuant to the authority delegated it by the Commission in the 2015 ICS Order, the Bureau created a standardized reporting template (FCC Form No. 2301(a)) and a related certification of accuracy (FCC Form No. 2301(b)), as well as instructions to guide providers through the reporting process. The instructions explain the reporting and certification requirements and reduce the burden of the data collection. (ICS Annual Reporting Form (2017-2019), https://www.fcc.gov/general/ics-data-collections; ICS Annual Reporting Certification Form, https://www.fcc.gov/general/ics-data-collections).

In 2021, the Commission released the Third Report and Order, Order on Reconsideration, and Fifth Further Notice of Proposed Rulemaking (2021 ICS Order), WC Docket No. 12-375, 36 FCC Rcd (2021), in which it revised its rules by adopting, among other things, lower interim rate caps for interstate calls. The rules necessitated changes to the Annual Reports in order to simplify compliance with and reduce the burden of the data collection. On December 15, 2021, the Bureau issued a Public Notice, WC 12-375, DA 21-1583 (WCB December 15, 2021), seeking comment on its proposed revisions to the instructions and annual reporting and certification templates for the Annual Reports. After considering the comments and replies submitted in response to the Public Notice, the Bureau released the Annual Reports Adoption Order on June 24, 2022, revising the instructions, standardized reporting template, and the certification of accuracy. See https://www.fcc.gov/document/wcb-announces-ics-annual-reporting-and-certification-revisions. The Order largely adopted the proposals contained in the Public Notice, with certain minor refinements and reevaluations responsive to comments and replies filed in response to the Public Notice.

Under the Bureau's Order, ICS providers must continue to submit all reports using the electronic template provided by the Commission, and to provide the data in a machine-readable, manipulatable format. The reporting requirements cover the general categories proposed in the Public Notice. These categories include the submission of information on facilities served; interstate, intrastate, and international ICS rates; ancillary service charges; site commissions; and disability access, among other matters. The Bureau adopted reporting requirements for interstate, international, and intrastate ICS rates as proposed, with minor revisions. Further, the Bureau adopted the reporting requirements for ancillary service charges assessed by ICS providers as proposed, with certain revisions. In addition, the Bureau adopted the reporting requirements as proposed concerning site commissions, with minor revisions. The Bureau also revised the instructions and reporting template to match these revisions, and to more precisely target the information to be reported in connection with providers' disability access services.

Federal Communications Commission.
Lynne Engledow,
Deputy Chief, Pricing Policy Division, Wireline Competition Bureau.

[FR Doc. 2022-22530 Filed 10-14-22; 8:45 am]

BILLING CODE 6712-01-P